DEPARTMENT OF VETERANS AFFAIRS

[OMB Control No. 2900-0680]

Agency Information Collection Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, has submitted the collection of information for the Veterans' Disability Benefits Commission as abstracted below to the Office of Management and Budget (OMB) for review and comment. The PRA submission describes the nature of the information collection and its expected cost and burden; it includes the actual data collection instrument.

DATES: Comments must be submitted on or before October 16, 2006.

FOR FURTHER INFORMATION OR A COPY OF THE SUBMISSION CONTACT: Denise McLamb, Initiative Coordination Service (005G1), Department of Veterans Affairs, 810 Vermont Avenue, NW., Washington, DC 20420, (202) 565-8374 or FAX (202) 565-7870 or e-mail denise.mclamb@va.gov. Please refer to “OMB Control No. 2900-0680”.

Send comments and recommendations concerning any aspect of the information collection to VA's OMB Desk Officer, OMB Human Resources and Housing Branch, New Executive Office Building, Room 10235, Washington, DC 20503 (202) 395-7316. Please refer to “OMB Control No. 2900-0680” in any correspondence.

SUPPLEMENTARY INFORMATION: Title: Veterans' Disability Benefits Commission Survey.

OMB Control Number: 2900-0680.

Type of Review: Extension of a currently approved collection.

Abstract: VA is announcing an opportunity for public comment on a proposed collection of survey information by the Veterans' Disability Benefits Commission. The information collected by the Commission's surveys will be used to determine whether disabled veterans and their survivors are appropriately compensated for the impact of disabilities on quality of life under the current disability rating system. The Commission will also collect survey information on the claims rating process. The Commission, which is independent from VA, will use the survey data along with other collected information to develop recommendations for the Disability Compensation Benefits program in a report to the President and Congress.

An agency may not conduct or sponsor, and a person is not required to respond to a collection of information unless it displays a currently valid OMB control number. The Federal Register Notice with a 60-day comment period soliciting comments on this collection of information was published on July 13, 2006, at pages 39703-39704.

Affected Public: Individuals or households and Not-for-Profit Institutions.

Estimated Time per Respondent and Annual Burden: 12,865 hours.

Estimated Average Burden per Respondent: 30 minutes for the veterans and survivors surveys and 40 minutes for the VSO national rater survey.

Frequency of Response: One-time.

Estimated Number of Respondents: 25,063.

Dated: September 7, 2006.
By direction of the Secretary.
Denise McLamb,
Program Analyst, Initiative Coordination Service.

[FR Doc. E6-15274 Filed 9-13-06; 8:45 am]

BILLING CODE 8320-01-P